DEPARTMENT OF COMMERCE

Foreign-Trade Zones Board

[Order No. 1479]

Expansion and Reorganization of Foreign-Trade Zone 181; Akron/Canton, OH Area

Pursuant to its authority under the Foreign-Trade Zones Act of June 18, 1934, as amended (19 U.S.C. 81a-81u), the Foreign-Trade Zones Board (the Board) adopts the following Order:

Whereas, the Northeast Ohio Trade & Economic Consortium, grantee of Foreign-Trade Zone No. 181, submitted an application to the Board for authority to expand and reorganize FTZ 181 in the northeast Ohio area, within and adjacent to the Cleveland Customs port of entry (FTZ Docket 57-2005, filed 11/14/2005; amended 2/2/06);

Whereas, notice inviting public comment was given in the Federal Register (70 FR 71085, 11/25/2005) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand and reorganize FTZ 181 is approved, subject to the Act and the Board's regulations, including Section 400.28, and to the Board's standard 2,000-acre activation limit for the overall zone project, and further subject to a sunset provision that would terminate authority for the additional parcels at Site 4 and new Sites 8 and 9 on December 31, 2011, for any of the parcels that have not been activated under FTZ procedures before that date.

Signed at Washington, DC, this 28th day of September 2006.
Stephen J. Claeys,
Acting Assistant Secretary of Commerce, for Import Administration, Alternate Chairman, Foreign-Trade Zones Board.
Attest:
Pierre V. Duy,
Acting Executive Secretary.

[FR Doc. E6-16615 Filed 10-5-06; 8:45 am]

BILLING CODE 3510-DS-P